DEPARTMENT OF ENERGY

Federal Energy Regulatory Commission

[Docket No. CP00-463-000]

Transcontinental Gas Pipe Line Corporation, Columbia Gas Transmission Corporation; Columbia Gulf Transmission Company, Notice of Application

October 5, 2000.

Take notice that on September 15, 2000, Transcontinental Gas Pipe Line Corporation (Transco), 2800 Post Oak Boulevard, Houston, Texas 77056; Columbia Gulf Transmission Company (Columbia Gulf), 2603 Augusta, Suite 125, Houston, Texas 77057-5637; and Columbia Transmission Corporation (Columbia), 12801 Fair Lakes Parkway, Fairfax, Virginia, 22030-1046 (jointly referred to as Applicants), tendered for filing a joint application for a certificate of public convenience and necessity pursuant to section 7(b) of the Natural Gas Act (NGA) to abandon: (1) Certain transportation services which were once required to permit Transco to transport natural gas for Columbia in offshore Louisiana; (2) certain exchange services which were once required to permit the exchange of natural gas between Transco and Columbia in the Lake Hatch Field, Terrebonne Parish, Louisiana; and (3) certain transportation and exchange of natural gas between Columbia, Columbia Gulf, and Transco in offshore, Louisiana, all as more fully set forth in the application, which is on file and open to public inspection. The application may be viewed on the web at www.ferc.fed.us/online/rims.htm (call (202) 208-2222 for assistance).

Applicants assert that no abandonment of any facility is proposed. Applicants also assert that the rate schedules for which Applicants seek abandonment authority are as follows:

Docket No. | Company name | Rate schedule
CP76-132 | Transco | X-97
CP79-199 | Columbia | X-89
CP79-199 | Transco | X-214
CP79-393 | Columbia | X-94
CP79-393 | Columbia Gulf | X-72
CP79-393 | Transco | X-223

The contact person for Columbia is Victoria J. Hamilton, 1700 MacCorkle Avenue, S.E., P.O. Box 1273, Charleston, West Virginia 25325-1273 at (304) 357-2927. The contact person for Transco is Julie P. Baumgarten, Esquire, P.O. Box 1396, Houston, Texas 77251-1396 at (713) 215-2344. The contact person for Columbia Gulf is Jacquelyne M. Rocan, Esquire, 2603 Augusta, Suite 125, Houston, Texas 77057-5637 at (713) 267-4743.

Any person desiring to be heard or to make protest with reference to said application should on or before October 26, 2000, file with the Federal Energy Regulatory Commission, 888 First Street, N.E., Washington, D.C. 20426, a motion to intervene or a protest in accordance with the requirements of the Commission's Rules of Practice and Procedure (18 CFR 385.214 or 385.211) and the regulations under the Natural Gas Act (18 CFR 157.10). All protests filed with the Commission will be considered by it in determining the appropriate action to be taken but will not serve to make the protestants parties to the proceeding. Any person wishing to become a party to a proceeding or to participate as a party in any hearing must file therein a motion to intervene in accordance with the Commission's rules.

Take further notice that, pursuant to the authority contained in and subject to jurisdiction conferred upon the Federal Energy Regulatory Commission by Section 7 and 15 of the Natural Gas Act and the Commission's Rules of Practice and Procedure, a hearing will be held without further notice before the Commission or its designee on this application if no motion to intervene is filed within the time required herein, if the Commission on its own review of the matter that permission and approval for the proposed abandonments are required by the public convenience or necessity. If a motion for leave to intervene is timely filed, or if the Commission on its own motion believes that a formal hearing is required, further notice of such hearing will be duly given.

Under the procedure herein provided for, unless otherwise advised, it will be unnecessary for Applicants to appear or to be represented at the hearing.

Linwood A. Watson, Jr.,
Acting Secretary.

[FR Doc. 00-26120 Filed 10-11-00; 8:45 am]

BILLING CODE 6717-01-M